DEPARTMENT OF THE INTERIOR

Bureau of Ocean Energy Management

Gulf of Mexico (GOM), Outer Continental Shelf (OCS), Eastern Planning Area (EPA) Lease Sale 225 and 226, Oil and Gas Lease Sales

AGENCY: Bureau of Ocean Energy Management (BOEM), Interior.

ACTION: Notice of availability (NOA) of the draft environmental impact statement (EIS) and public meetings.

Authority: This NOA is published pursuant to the regulations (40 CFR part 1503) implementing the provisions of the National Environmental Policy Act (NEPA) of 1969, as amended (42 U.S.C. 432

SUMMARY: BOEM has prepared a Draft EIS on oil and gas lease sales tentatively scheduled in 2014 and 2016 in the EPA offshore the States of Louisiana, Mississippi, Alabama, and Florida. Under the Proposed Final Outer Continental Shelf Oil & Gas Leasing Program: 2012-2017 (Five-Year Program), two annual lease sales are scheduled for the EPA. The proposed EPA lease sales are Lease Sales 225 and 226.

SUPPLEMENTARY INFORMATION: The Draft EIS provides information on the baseline conditions and potential environmental effects of oil and natural gas leasing, exploration, development, and production in this area of the EPA. The Draft EIS incorporates by reference the Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS; OCS EIS/EA BOEM 2012-019). The Draft EIS tiers from the Outer Continental Shelf Oil and Gas Leasing Program: 2012-2017 Final Programmatic Environmental Impact Statement. Subject-matter experts surveyed scientific journals and available scientific data, gathered information, and interviewed personnel from academic institutions and Federal, State, and local agencies. BOEM also conducted an extensive search for new information in consideration of the Deepwater Horizon explosion, oil spill, and cleanup. BOEM has examined the potential impacts of routine activities and accidental events associated with the proposed lease sales, and the incremental contribution of the proposed lease sales to the cumulative impacts on environmental and socioeconomic resources. The Draft EIS also includes an analysis of a low-probability catastrophic spill in Appendix B. The oil and gas resource estimates and scenario information for this Draft EIS are presented as a range that would encompass the resources and activities estimated for an EPA proposed lease sale.

Draft EIS Availability: BOEM has printed and will be distributing a limited number of paper copies. In keeping with the Department of the Interior's mission to protect natural resources and to limit costs while ensuring availability of the document to the public, BOEM will primarily distribute digital copies of this Draft EIS on compact discs. However, if you require a paper copy, BOEM will provide one upon request if copies are still available.

1. You may obtain a copy of the Draft EIS from the Bureau of Ocean Energy Management, Gulf of Mexico OCS Region, Public Information Office (GM 250I), 1201 Elmwood Park Boulevard, Room 250, New Orleans, Louisiana 70123-2394 (1-800-200-GULF).

2. You may download or view the Draft EIS on BOEM's Internet Web site at http://www.boem.gov/Environmental-Stewardship/Environmental-Assessment/NEPA/nepaprocess.aspx.

Several libraries along the Gulf Coast have been sent copies of the Draft EIS. To find out which libraries have copies of the Draft EIS for review, you may contact BOEM's Public Information Office or visit BOEM's Internet Web site at http://www.boem.gov/Environmental-Stewardship/Environmental-Assessment/NEPA/nepaprocess.aspx.

Comments: Federal, State, and local government agencies and other interested parties are requested to send their written comments on the Draft EIS in one of the following ways:

1. In an envelope labeled “Comments on the EPA 225/226 Draft EIS” and mailed (or hand carried) to Mr. Gary D. Goeke, Chief, Regional Assessment Section, Office of Environment (GM 623E), Bureau of Ocean Energy Management, Gulf of Mexico OCS Region, 1201 Elmwood Park Boulevard, New Orleans, Louisiana 70123-2394.

2. Through the regulations.gov web portal: Navigate to http://www.regulations.gov and search for “Oil and Gas Lease Sales: Gulf of Mexico, Outer Continental Shelf; Eastern Planning Area Lease Sales 225 and 226”. (Note: It is important to include the quotation marks in your search terms.) Click on the “Comment Now!” button to the right of the document link. Enter your information and comment, then click “Submit”.

3. BOEM email address: boemegomeis@BOEM.gov.

Comments should be submitted no later than 45 days from the publication of this NOA.

Public Meetings: BOEM will hold public meetings to obtain comments regarding the Draft EIS. These meetings are scheduled as follows:

• Tallahassee, Florida: Tuesday, March 26, 2013, Hilton Garden Inn Tallahassee Central, 1330 Blairstone Road, Tallahassee, Florida 32301; one meeting beginning at 1:00 p.m. EDT;

• Panama City Beach, Florida: Wednesday, March 27, 2013, Wyndham Bay Point Resort, 4114 Jan Cooley Drive, Panama City Beach, Florida; two meetings, the first beginning at 1:00 p.m. CDT and the second beginning at 6:00 p.m. CDT;

• Mobile, Alabama: Thursday, March 28, 2013, Five Rivers—Alabama's Delta Resource Center, 30945 Five Rivers Boulevard, Spanish Fort, Alabama; one meeting beginning at 1:00 p.m. CDT;

• Gulfport, Mississippi: Friday, March 29, 2013, Courtyard by Marriott Gulfport Beachfront MS Hotel, 1600 East Beach Boulevard, Gulfport, Mississippi; one meeting beginning at 1:00 p.m. CDT; and

• New Orleans, Louisiana: Monday, April 1, 2013, Bureau of Ocean Energy Management, Gulf of Mexico OCS Region, 1201 Elmwood Park Boulevard, New Orleans, Louisiana; one meeting beginning at 1:00 p.m. CDT.

FOR FURTHER INFORMATION CONTACT: For more information on the Draft EIS, you may contact Mr. Gary D. Goeke, Bureau of Ocean Energy Management, Gulf of Mexico OCS Region, Office of Environment (GM 623E), 1201 Elmwood Park Boulevard, New Orleans, Louisiana 70123-2394 or by email at boemegomeis@BOEM.gov. You may also contact Mr. Goeke by telephone at (504) 736-3233.

Public Disclosure of Names and Addresses

Before including your address, phone number, email address, or other personal identifying information in your comment, be advised that your entire comment, including your personal identifying information, may be made publicly available at any time. While you can ask us in your comment to withhold from public review your personal identifying information, we cannot guarantee that we will be able to do so.

Dated: February 25, 2013.
Tommy P. Beaudreau,
Director, Bureau of Ocean Energy Management.

[FR Doc. 2013-04963 Filed 3-1-13; 8:45 am]

BILLING CODE 4310-MR-P